DEPARTMENT OF TRANSPORTATION

Federal Motor Carrier Safety Administration

[Docket No. FMCSA-2021-0158]

Agency Information Collection Activities; Renewal of a Currently Approved Information Collection: Motor Carrier Identification Report

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled, “Motor Carrier Identification Report,” which is used to identify FMCSA regulated entities, help prioritize the agency's activities, aid in assessing the safety outcomes of those activities, and for statistical purposes. This ICR is necessary to ensure regulated entities are registered with the DOT.

DATES: Comments on this notice must be received on or before February 15, 2022.

ADDRESSES: You may submit comments identified by Federal Docket Management System (FDMS) Docket Number FMCSA-2021-0158 using any of the following methods:

• Federal eRulemaking Portal: http://www.regulations.gov. Follow the online instructions for submitting comments.

• Fax: 1-202-493-2251.

• Mail: Dockets Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “FAQ” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Mr. Jeffrey Secrist, Office of Registration and Safety Information, Department of Transportation, FMCSA, West Building 6th Floor, 1200 New Jersey Avenue SE, Washington, DC 20590. Telephone: 202-385-2367; email Jeffrey.secrist@dot.gov.

SUPPLEMENTARY INFORMATION: Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). FMCSA will use this data to administer its safety programs using a database of entities that are subject to its regulations. This database necessitates that these entities notify FMCSA of their existence. For example, under 49 CFR 390.19(a), FMCSA requires all motor carriers beginning operations to file a Form MCS-150 titled, “Motor Carrier Identification Report,” or MCS-150B titled, “Combined Motor Carrier Identification Report and HM Permit Applications.” This report is filed by all motor carriers conducting operations in interstate, intrastate transporting hazardous materials or international commerce before beginning operations. It asks the respondent to provide the name of the business entity that owns and controls the motor carrier operation; address and telephone of principal place of business; assigned identification number(s), type of operation, types of cargo usually transported; number of vehicles owned, term leased and trip leased; driver information; and certification statement signed by an individual authorized to sign documents on behalf of the business entity. Existing applicants will use the MCS-150 or MCS-150B to update their information in the Motor Carrier Management Information System. Applicants filing for the first time will be required to file on-line. Form MCS-150 or MCS-150B will be used for Mexico-domiciled carriers that seek authority to operate beyond the United States municipalities on the United States-Mexico border and their commercial zones. The information collected from the respondents is readily available to the public. This revised ICR captures the burden of continued use of the MCS-150 or MCS-150B for motor carriers updating their registration information and for the registration of Mexico-domiciled carriers.

Title: Motor Carrier Identification Report.

OMB Control Number: 2126-0013.

Type of Request: Renewal of a currently approved collection.

Respondents: Motor carriers, freight forwarders, intermodal equipment providers, brokers, motor carriers with hazardous materials safety permit, cargo tank facilities and Mexican motor carriers.

Estimated Number of Responses: 688,732 responses [683,452 responses for 1C-1 + 3,241 responses for 1C-2 + 2,039 responses for 1C-3].

Estimated Time per Response: IC-1: 20 minutes for new filings and 7.5 minutes for biennial updates and changes to complete the Form MCS-150. IC-2: 26 minutes for new filings and 5 minutes for biennial updates and changes to complete the Form MCS-150B. IC-3: 20 minutes for new filings and 7.5 minutes for biennial updates and changes to complete the Form MCS-150C.

Expiration Date: July 31, 2022.

Frequency of Response: On occasion and biennially.

Estimated Total Annual Burden: 116,072 hours [114,864 hours for IC-1 + 530 hours for IC-2 + 678 hours for IC-3].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2021-27306 Filed 12-16-21; 8:45 am]

BILLING CODE 4910-EX-P